DEPARTMENT OF HOMELAND SECURITY

Coast Guard

33 CFR Part 117

[CGD01-07-027]

Drawbridge Operation Regulations; Raritan River, Arthur Kill, and Their Tributaries, NJ

AGENCY: Coast Guard, DHS.

ACTION: Notice of temporary deviation from regulations; request for comments.

SUMMARY: The Commander, First Coast Guard District, has issued a temporary deviation from the regulation governing the operation of the AK Railroad Bridge across Arthur Kill at mile 11.6, between Staten Island, New York and Elizabeth, New Jersey. This temporary deviation requires the AK Railroad Bridge to remain in the open position at all times, except that the draw would close for the passage of trains for two daily one-hour closure periods on a fixed schedule with a one hour adjustment whenever high water occurs during or up to one hour after the applicable closure period. In addition, a number of unscheduled requests for one hour closure periods may be granted by the Coast Guard within one to three hours of receipt of the request. The purpose of this deviation is to test a temporary change to the drawbridge operation schedule to help determine the most equitable and safe solution to facilitate the present and anticipated needs of navigation and rail traffic.

DATES: This deviation is effective from April 9, 2007 through October 5, 2007. Comments must be received by June 23, 2007.

ADDRESSES: You may mail comments and related material to Commander (dpb), First Coast Guard District Bridge Branch, One South Street, Battery Park Building, New York, New York, 10004, or deliver them to the same address between 7 a.m. and 3 p.m., Monday through Friday, except, Federal holidays. The telephone number is (212) 668-7165. The First Coast Guard District, Bridge Branch, maintains the public docket for this deviation. Comments and material received from the public, as well as documents indicated in this notice as being available in the docket, will become part of this docket and will be available for inspection or copying at the First Coast Guard District, Bridge Branch, 7 a.m. to 3 p.m., Monday through Friday, except Federal holidays.

FOR FURTHER INFORMATION CONTACT: Mr. Joe Arca, Project Officer, First Coast Guard District, Bridge Branch, at (212) 668-7165.

SUPPLEMENTARY INFORMATION:

Request for comments

We encourage you to participate in evaluating this test schedule by submitting comments and related material. If you do so, please include your name and address, identify the docket number for this deviation (CGD01-07-027), indicate the specific section of this document to which each comment applies, and give the reason for each comment. Please submit all comments and related material in an unbound format, no larger than 8 ½ by 11 inches, suitable for copying. If you would like to know they reached us, please enclose a stamped, self-addressed postcard or envelope. We will consider all comments and material received during the comment period. Comments must be received by June 23, 2007, prior to the end of the deviation period so that adjustments to the tested operating schedule may be made, if necessary.

Background and Purpose

The AK Railroad Bridge has a vertical clearance of 31 feet at mean high water and 35 feet at mean low water in the closed position. The existing operating regulation, listed at 33 CFR 117.747, requires that all bridges across the Raritan River, Arthur Kill, and their tributaries, shall open on signal; except that, from 7:30 a.m. to 10 a.m. and 5 p.m. to 7:30 p.m., the draws may be opened for the passage of vessels for periods no longer than 10 minutes or remain closed for the passage of land traffic for no longer than 10 minutes. The above regulation is no longer applicable or necessary as it pertains to the AK Railroad Bridge because the AK Railroad Bridge has been maintained in the open position for the past 20 years due to the cessation of all railroad train traffic over the bridge.

The owner of the bridge, New York City Economic Development Corporation (NYCEDC), began a bridge rehabilitation program approximately 10 years ago, as part of the region's Full Freight Access Initiative.

Part of the Full Freight Initiative was to once again move freight trains across the bridge to and from the Staten Island Landfill facility and the New York Container Terminal (formerly the Howland Hook Terminal). The New York Container Terminal has already been revitalized and is preparing to receive railroad freight traffic once again.

Recently, the AK Railroad Bridge rehabilitation project was completed in anticipation of renewed rail operations requiring the passage of train traffic across the bridge.

The existing vessel traffic transiting Arthur Kill is comprised of deep draft oceangoing tank vessels, tug assisted barge traffic, other commercial vessels of various sizes, as well as a variety of recreational craft.

The deep draft oceangoing vessel transits are tide dependent in that their ability to maneuver safely requires such vessels to do so primarily on or near slack high tide, unlike barge and tug traffic, which may transit at various stages of the tide.

The bridge owner, NYCEDC, requested that the Coast Guard promulgate bridge operation regulations commensurate with the needs of freight rail operations. The resumption of rail traffic across the AK Railroad Bridge would require the bridge be closed to navigation for short periods several times a day.

The purpose of this temporary deviation is to help determine a bridge operating schedule that will accommodate both Conrail's proposed train schedule as well as future rail operations, while continuing to provide for the present and anticipated needs of navigation.

This deviation will test an alternate drawbridge operation schedule designed to help facilitate the safe coordination of vessel and rail traffic. A variety of factors, such as daily tide variations, the present and anticipated needs of navigation, and train scheduling, will be considered during this temporary test deviation.

After numerous meetings and consultations with rail and marine transportation interests, the Coast Guard has concluded that the most equitable and safe solution to facilitate the presently known and anticipated marine and railroad traffic scheduling needs is to test a fixed daily drawbridge operation schedule making allowances for high water periods which are critical to large vessel transits. In addition, due to the variability of some freight rail movements, accommodation of unscheduled bridge closure requests will be tested.

In anticipation of additional railroad operations, the Coast Guard will continue to evaluate the bridge operating schedule in future rulemakings, as necessary.

The schedule considered in this notice would provide two daily one-hour bridge closure periods on a fixed schedule with a one hour adjustment during certain high tides (as predicted at the Battery, New York). Also, unscheduled bridge closure requests may be granted by the Coast Guard within one to three hours of receipt of the request.

Being able to predict bridge closure periods each day, in advance, would enable both rail and marine interests to schedule accordingly, obviating the need to adjust to different bridge closure times daily. The ability to obtain unscheduled bridge closures will offer some flexibility in rail operations.

This temporary deviation requires the AK Railroad Bridge to remain in the open position at all times except when it is allowed to remain closed for the passage of rail traffic for two one-hour periods at 10 a.m. and 4 p.m., daily, except when high tide occurs during or within one hour after the scheduled closed period. When high tide occurs during the bridge closure period the bridge closure will commence one hour later, at 11 a.m.; when high tide occurs within one hour after the scheduled closure period the bridge closure will commence one hour earlier, at 9 a.m. A schedule of bridge closure periods will be posted on the U.S. Coast Guard's Homeport Web site and published in the Local Notice to Mariners. In addition to the scheduled closure periods, up to two, unscheduled one hour bridge closure periods per day (maximum of twelve per week), may be requested of and may be approved by the Coast Guard within one to three hours of the request. The bridge will remain open for a minimum of two hours between bridge closures for the passage of marine traffic. In the event of bridge operational failure, the bridge owner or operator shall notify the Coast Guard Captain of the Port, New York immediately and shall ensure that a repair crew is on scene at the bridge no later than 45 minutes after the bridge fails, and remains until the bridge has been restored to normal operations or raised and locked in the fully open position.

This deviation from the operating regulations is authorized under 33 CFR 117.35.

Dated: March 12, 2007.
Gary Kassof,
Bridge Program Manager, First Coast Guard District.

[FR Doc. E7-5062 Filed 3-19-07; 8:45 am]

BILLING CODE 4910-15-P